DEPARTMENT OF JUSTICE

Notice of Lodging of Consent Decree Under the Comprehensive Environmental Response, Compensation, and Liability Act

Notice is hereby given that on September 12, 2008, a proposed consent decree in United States of America and California Department of Toxic Substances Control (“DTSC”) v. Newmont Capital Limited and Newmont Mining Corporation of Canada Limited, Civil No. 2:08-at-1061, was lodged with the United States District Court for the Eastern District of California.

This Consent Decree resolves claims asserted by the United States and DTSC in a complaint filed on September 12, 2008, against the settling defendants pursuant to Section 107(a) of the Comprehensive Environmental Response, Compensation, and Liability Act (“CERCLA”), 42 U.S.C. 9607(a), for the recovery of response costs related to releases and threatened releases of hazardous substances from the Lava Cap Mine Superfund Site located in Nevada County, California (“the Site”).

The proposed Consent Decree provides for the payment by the settling defendants of $3 million in response costs incurred at the Site, including $1,860,000 to be paid to the United States and $1,140,000 to be paid to DTSC.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America and California Department of Toxic Substances Control v. Newmont Capital Limited and Newmont Mining Corporation of Canada Limited, D.J. Ref. 90-11-3-09404.

The Consent Decree may be examined at the Office of the United States Attorney for the Eastern District of California, 501 I Street, Suite 10-100, Sacramento, CA 95814, and at U.S. Environmental Protection Agency, Region 9, Office of Regional Counsel, 75 Hawthorne Street, San Francisco, California 94105. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $6.25 (.25 cents per page reproduction cost) payable to the U.S. Treasury, or if by e-mail or fax, forward a check in that amount to the Consent Decree Library at the stated address.

Henry Friedman,
Assistant Chief, Environmental Enforcement Section, Environment and Natural Resources Division.

[FR Doc. E8-21863 Filed 9-18-08; 8:45 am]

BILLING CODE 4410-15-P